SMALL BUSINESS ADMINISTRATION

[Declaration of Disaster #3359]

District of Columbia

As a result of the President's major disaster declaration on August 16, 2001, I find that the District of Columbia constitutes a disaster area due to damages caused by severe storms, flooding and mudslides occurring on August 10 through August 12, 2001. Applications for loans for physical damage as a result of this disaster may be filed until the close of business on October 15, 2001 and for economic injury until the close of business on May 16, 2002 at the address listed below or other locally announced locations: U.S. Small Business Administration, Disaster Area 1 Office, 360 Rainbow Blvd., South 3rd Fl., Niagara Falls, NY 14303-1192.

In addition, applications for economic injury loans from small businesses located in the following contiguous counties may be filed until the specified date at the above location: Montgomery and Prince Georges counties in the State of Maryland; Arlington and Fairfax counties and the City of Alexandria in the Commonwealth of Virginia.

The interest rates are:

For Physical Damage

Homeowners With Credit Available Elsewhere: 6.750%

Homeowners Without Credit Available Elsewhere: 3.375%

Businesses With Credit Available Elsewhere: 8.000%

Businesses and Non-Profit Organizations Without Credit Available Elsewhere: 4.000%

Others (Including Non-Profit Organizations) With Credit Available Elsewhere: 7.125%

For Economic Injury

Businesses and Small Agricultural Cooperatives Without Credit Available Elsewhere: 4.000%

The number assigned to this disaster for physical damage is 335911. For economic injury the number is 9M3600 for District of Columbia; 9M3700 for Maryland; and 9M3800 for Virginia.

(Catalog of Federal Domestic Assistance Program Nos. 59002 and 59008)
Dated: August 17, 2001.
James E. Rivera,
Acting Associate Administrator for Disaster Assistance.

[FR Doc. 01-21348 Filed 8-22-01; 8:45 am]

BILLING CODE 8025-01-P